NUCLEAR REGULATORY COMMISSION

Correction to Biweekly Notice Applications and Amendments to Operating Licenses Involving No Significant Hazards Consideration

On February 3, 2004 (69 FR 5200), the Federal Register published the “Biweekly Notice of Applications and Amendments to Operating Licenses Involving No Significant Hazards Considerations.” On page 5216, Southern Nuclear Operating Company, Inc., et al., Vogtle Electric Generating Plant, Units 1 and 2, “Amendment Nos. 130 and 108” should read “Amendment Nos. 130 and 109.”

Dated at Rockville, Maryland, this 10th day of February 2004.
For the Nuclear Regulatory Commission.
Ledyard B. Marsh,
Director, Division of Licensing Project Management, Office of Nuclear Reactor Regulation.

[FR Doc. 04-3438 Filed 2-17-04; 8:45 am]

BILLING CODE 7590-01-P